DEPARTMENT OF HOMELAND SECURITY

Federal Emergency Management Agency

[Docket ID: FEMA-2019-0029; OMB No. 1660-0115]

Agency Information Collection Activities: Proposed Collection; Comment Request; Environmental and Historic Preservation Screening Form

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the information collection activities required to administer the Environmental and Historic Preservation Screening Form.

DATES: Comments must be submitted on or before March 23, 2020.

ADDRESSES: To avoid duplicate submissions to the docket, please use only one of the following means to submit comments:

(1) Online. Submit comments at www.regulations.gov under Docket ID FEMA-2019-0029. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Beth McWaters-Bjorkman, Environmental Protection Specialist, FEMA, Grant Programs Directorate, 202-786-9854, elizabeth.mcwaters-bjorkman@fema.dhs.gov. You may contact the Records Management Division for copies of the proposed collection of information at email address: FEMA-Information-Collections-Management@fema.dhs.gov.

SUPPLEMENTARY INFORMATION: FEMA's Grant Programs Directorate (GPD) awards thousands of grants each year through various grant programs. These programs award funds for projects used to improve homeland security and emergency preparedness. The National Environmental Policy Act of 1969 (NEPA), Public Law 91-190, Sec. 102(B) and (C), 42 U.S.C. 4332, the National Historic Preservation Act of 1966 (NHPA), as amended, Public Law 89-665, 54 U.S.C. 306108 and a variety of other environmental and historic preservation laws and Executive Orders (E.O.) require the Federal government to examine the potential impacts of its proposed actions on communities, public health and safety, and cultural, historic, and natural resources prior to undertaking those actions. The GPD process of considering these potential impacts is called an environmental and historic preservation (EHP) review which is employed to examine compliance with multiple EHP authorities through one consolidated process.

The 2020 EHP Screening Form does not require any new information, and includes an appendix with guidance on providing photographs with the EHP submission. Recipients are no longer required to submit floodplain and wetlands maps or information about the proposed project's relationship to an existing master plan.

Collection of Information

Title: Environmental and Historic Preservation Screening Form.

Type of Information Collection: Revision of a currently approved information collection.

OMB Number: 1660-0115.

FEMA Forms: FEMA Form 024-0-1, Environmental and Historic Preservation Screening Form.

Abstract: NEPA requires each Federal agency to examine the impact of its actions (including the actions of recipients using grant funds) on the human environment, to look at potential alternatives to those actions, and to inform both decision-makers and the public of those impacts through a transparent process. This Screening Form will facilitate FEMA's review of recipient actions in FEMA's effort to comply with the environmental requirements.

Affected Public: State, Local or Tribal Government; Not-for-Profit Institutions.

Number of Respondents: 2,000.

Number of Responses: 2,000.

Estimated Total Annual Burden Hours: 16,000.

Estimated Cost: The estimated annual cost to respondents for the hour burden is $871,360. There are no annual costs to respondents' operations and maintenance costs for technical services. There are no annual start-up or capital costs. The cost to the Federal Government is $5,902,832.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-00987 Filed 1-21-20; 8:45 am]

BILLING CODE 9111-46-P